GENERAL SERVICES ADMINISTRATION

Office of Small Business Utilization; Small Business Advisory Committee; Notification of a Public Meeting of the Small Business Advisory Committee

AGENCY: Office of Small Business Utilization, GSA.

ACTION: Notice.

SUMMARY: The General Services Administration (GSA) is announcing a public meeting of the GSA Small Business Advisory Committee (the Committee).

DATES: The meeting will take place May 14, 2007. The meeting will begin 1 p.m. and conclude no later than 6 p.m. that day. The Committee will accept oral public comments at this meeting and has reserved a total of thirty minutes for this purpose. Members of the public wishing to reserve speaking time must contact Aaron Collmann in writing at: sbac@gsa.gov or by fax at (202) 501-2590, no later than one week prior to the meeting.

ADDRESSES: GSA Expo 2007, Orange County Convention Center, Room W240B, 9800 International Drive, Orlando, FL.

FOR FURTHER INFORMATION CONTACT: Aaron Collmann, Room 6029, GSA Building, 1800 F Street, NW., Washington, DC 20405 (202) 501-1021 or e-mail at sbac@gsa.gov.

SUPPLEMENTARY INFORMATION: This notice is published in accordance with the provisions of the Federal Advisory Committee Act (FACA) (Pub. L. 92-463). The purpose of this meeting is to develop the topics generated during the previous meeting December 6-7, 2006; to receive briefings from small business topical experts, and to hear from interested members of the public on proposals to improve GSA’s small business contracting performance. Topics to be discussed from the previous meeting may include, but are not limited to, Contractor Teaming Agreements and the Small Business Set-asides on the GSA Multiple Awards Schedules Program. Information from previous meetings can be found online at http://www.gsa.gov/sbac.

Dated: April 20, 2007.
Felipe Mendoza,
Associate Administrator,Office of Small Business Utilization,General Services Administration.

[FR Doc. E7-8066 Filed 4-26-07; 8:45 am]

BILLING CODE 6820-34-S